DEPARTMENT OF AGRICULTURE

Forest Service

Commercial Pack Station and Pack Stock Outfitter/Guide Permit Issuance; Inyo National Forest; Inyo, Mono, and Tulare Counties, CA and Mineral County, NV

AGENCY: Forest Service, USDA.

ACTION: Notice of intent to prepare an environmental impact statement.

SUMMARY: The USDA Forest Service will prepare an environmental impact statement to document and disclose the environmental impacts of a proposal to issue long term permits for a variety of commercial pack stock related activities to twelve existing Resort Special Use Permit holders (commercial service supported by horse). The DEIS also analyzes a proposal from one current outfitter and guide (commercial service supported by burros) and a proposal from one new outfitter and guide (commercial service supported by llamas) to issue permits for their proposed commercial activities. The services as proposed would occur on the Inyo National Forest in the Ansel Adams (AA), John Muir (JM), Golden Trout (GT), and South Sierra (SS) Wildernesses, and the non-wilderness portions of the Inyo National Forest. This EIS tiers to the Record of Decision that will be signed for the Trail and Commercial Pack Stock Management Plan Environmental Impact Statement for all activities and uses proposed in the AA and JM Wildernesses. Current activities provided by pack stations include full service guided trips (guide remains for the entire trip), dunnage trips (transport of material and supplies), spot trips (transport of people and supplies to a location and guide leaving), day rides, wild horse viewing in the Pizona Area (from a base camp finding and viewing wild horses), and stock drives (movement of stock to and from winter range to operating areas). Activities currently conducted by the Outfitter and Guides include use of burros and llamas to provide dunnage service, backpacking trips, and camp re-supply services.

DATES: Comments concerning the scope of the analysis should be received no later than September 30, 2005. A draft environmental impact statement is expected to be published in February 2006, with public comment on the draft material requested for a period of 45 days. The final EIS is expected in August 2006.

ADDRESSES: Send written comments to Commercial Pack Station and Pack Stock Outfitter/Guide Permit Issuance, Inyo National Forest, 351 Pacu Lane, Suite 200, Bishop, CA 93514. Electronic comments may be sent to: comments-pacificsouthwest-inyo@fs.fed.us. Include “Commercial Pack Station and Pack Stock Outfitter/Guide Permit Issuance” in the subject line.

FOR FURTHER INFORMATION CONTACT: Roger Porter, Interdisciplinary Team Leader, Inyo National Forest, 351 Pacu Lane, Suite 200, Bishop, CA 93514, (760) 873-2449.

SUPPLEMENTARY INFORMATION:

Purpose and Need for Action

There is a need for action on permit applications from twelve resort pack stations to issue their term permits for their existing facilities, activities and uses, and new uses on all portions of the Inyo National Forest, including the AA, JM, GT, and SS Wildernesses and non-wilderness areas. The action is needed because many of the existing permits are due to expire in the near future. The twelve resort pack stations are: Bishop Pack Outfitters, Cottonwood Pack Station, Frontier Pack Train, Glacier Pack Train, Mammoth Lakes Pack Outfit, McGee Creek Pack Station, Mt. Whitney Pack Trains, Pine Creek Pack Station, Rainbow Pack Outfitters, Reds Meadow/Agnew Meadows Pack Stations, Rock Creek Pack Station, and Sequoia Kings Pack Trains. There is also a need for action on a permit application from one existing outfitter and guide to issue their term permit (Three Corner Round Pack Outfit) and for action on a permit from one new outfitter and guide providing llama service.

This project is also needed to respond to a Court Order issued in 2001. The Court Order required that the Forest Service reevaluate the existing management direction and impacts of commercial pack stock operations on the Ansel Adams and John Muir Wildernesses prior to issuing permits for these operations. The court also ordered that the cumulative effects analysis be completed by December 2005 followed by a second NEPA process to issue individual special use permits by December 2006. The first planning effort—the Trail and Commercial Pack Stock Management in the Ansel Adams and John Muir Wildernesses EIS—will analyze the management direction and cumulative impacts of these operations. This Commercial Pack Station and Pack Stock Outfitter/Guide Permit Issuance EIS will respond to the portion of the Court Order requiring the second level of NEPA analysis related to the re-issuance of commercial pack station permits.

The purpose of the project is to continue to provide commercial pack stock services as a part of a wide range of available recreational activities available on the Inyo National Forest and to provide these services in a manner consistent with existing forest plan direction.

The Final EIS (FEIS) and Record of Decision (ROD) for this project will tier to the Trail and Commercial Pack Stock Management in the John Muir/Ansel Adams FEIS and ROD. The Trail and Commercial Pack Stock FEIS and ROD will identify the levels and terms of commercial pack stock use in the AA and JM Wilderness. This Permit Issuance EIS will authorize these uses in the AA and JM Wildernesses as well as authorize uses on other areas of the Inyo National Forest.

Proposed Action

To meet the purpose and need, the Forest Service proposes to issue long term permits for a variety of commercial pack stock related activities to twelve existing Resort Special Use Permit holders (commercial service supported by horses and mules). The Forest Service also proposes to issue an outfitter/guide permit for one current outfitter and guide (commercial service supported by burros) and an outfitter/guide permit for one new outfitter and guide (commercial service supported by llamas). The services as proposed would occur on the Inyo National Forest in the AA, JM, GT, and SS Wildernesses, and the non-wilderness portions of the Inyo National Forest. The proposed action authorizes the terms, conditions, and appropriate use levels for these activities. Specifically, the proposed action includes: (1) Pack station/outfitter guide-specific use authorizations in the AA and JM Wildernesses; (2) pack station/outfitter guide-specific authorizations in the GT and SS Wildernesses; (3) grazing/range readiness standards and approval and authorization of incidental grazing in the GT and SS Wildernesses and non-wilderness areas of the Inyo National Forest; (4) authorizations of pack station base facilities (including pastures and corrals) and boundaries; (5) location and authorization of front country (i.e., non-wilderness) day rides and activities; and (6) restricting commercial pack stock travel to existing trails within identified Concentrated Recreation Areas. The Proposed Action also contains a number of actions specific for each of the twelve pack stations and two outfitter/guides analyzed in the Draft EIS. A more detailed description of the proposed action is available by contacting the project team leader.

Possible Alternatives

In addition to the Proposed Action, a No Action alternative, as required by NEPA will also be analyzed. The No Action alternative to be analyzed would allow for the natural expiration of current Pack Station special use permits with no new permits being issued.

Responsible Official

The responsible official is Jeffrey E. Bailey, Forest Supervisor, Inyo National Forest, 351 Pacu Lane, Suite 200, Bishop, CA 93514.

Nature of Decision To Be Made

Given the purpose and need, the deciding official reviews the proposed action, the other alternatives, and the environmental consequences in order to make the following decision: Whether to issue the permits with modified terms and conditions, or not to authorize the uses and require removal of all facilities from public land.

Scoping Process

Public participation is an important part of this analysis. The Forest Service is seeking information, comments, and assistance from Federal, State, and local agencies, tribes, and other individuals or organizations who may be interested in or affected by the proposed action. Comments submitted during the scoping process should be in writing. They should be specific to the action being proposed and should describe as clearly and completely as possible any issues the commenter has with the proposal. This input will be used in preparation of the draft EIS.

To facilitate public participation, additional scoping opportunities will include a public scoping letter, meetings (dates and locations to be determined), newsletters, and information posted on the Inyo National Forest's Web sites.

Estimated Dates for the Draft and Final EIS

A draft environmental impact statement will be prepared for public comment. The comment period on the draft environmental impact statement will be 45 days from the date the Environmental Protection Agency publishes the notice of availability in the Federal Register. It is expected that the Draft EIS will be available for comment in February 2006.

Early Notice of Importance of Public Participation in Subsequent Environmental Review

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Jeffrey E. Bailey,
Forest Supervisor, Inyo National Forest.

[FR Doc. 05-15695 Filed 8-8-05; 8:45 am]

BILLING CODE 3410-11-P